DEPARTMENT OF THE INTERIOR

Fish and Wildlife Service

[FWS-R5-ES-2012-N098; FXHC1122055COM0Z5_123_FF05E00000]

Adoption and Notice of Availability of a Final Environmental Assessment for the Penobscot River Restoration Project

AGENCY: Fish and Wildlife Service, Interior.

ACTION: Notice of availability; request for comments.

SUMMARY: The U.S. Fish and Wildlife Service (Service) hereby gives notice of its intent to adopt the Federal Energy Regulatory Commission's (Commission) existing Final Environmental Assessment (FEA) for the Application for Surrender of License of the Veazie, Great Works, and Howland Projects.

The FEA, issued on May 18, 2010, evaluates the environmental impacts that would result from the Commission approving the applications for license surrender. The Penobscot River Restoration Project (PRRP) seeks to restore diadromous fish to the Penobscot River and key tributaries in accordance with the Lower Penobscot River Basin Comprehensive Settlement Agreement (Agreement), to which the U.S. Department of the Interior (Department) is a signatory. The Service intends to approve mechanisms to assist with funding the PRRP because it will provide substantial benefits for diadromous fish. Based on the Service's independent evaluation, adoption of the FEA would meet the Department's and the Service's National Environmental Policy Act (NEPA) procedures and guidelines, as the Service is funding the precise actions, the effects of which have already been analyzed by the Commission. As part of that process, the Service is recirculating the FEA as its final Environmental Assessment in accordance with the Service's adoption requirements.

DATES: We will accept comments received or postmarked on or before August 20, 2012. Comments submitted electronically using the Federal eRulemaking Portal (see ADDRESSES section, below) must be received by 11:59 p.m. Eastern Time on the closing date.

ADDRESSES: Document availability: You may obtain copies of the notice and the FEA on the Internet at http://www.regulations.gov at Docket Number FWS-R5-ES-2012-0046, or at http://www.fws.gov/mainefieldoffice/index.html (Web site for the Service's Field Office in Maine, or by mail from the Service's Maine Field Office (see FOR FURTHER INFORMATION CONTACT). The full administrative record is available though the Commission's eLibrary at http://www.ferc.gov/docs-filing/eLibrary.asp. To use eLibrary, enter the docket number (either P-2403, P-2312, or P-2721) to access the document. For assistance, contact the Commission's online support toll free at (866) 208-3676, or TTY at (866) 208-3372.

Comment submission: You may submit written comments by one of the following methods:

Electronically: Go to the Federal eRulemaking Portal: http://www.regulations.gov. In the Search box, enter FWS-R5-ES-2012-0046, which is the docket number for this notice. Then, on the left side of the screen, under the Document Type heading, click on the Notices link to locate this document and submit a comment.

By compact disk (CD) or hard copy: Submit by U.S. mail or hand-delivery to: Public Comments Processing, Attn: FWS-R5-ES-2012-0046; Division of Policy and Directives Management; U.S. Fish and Wildlife Service; 4401 N. Fairfax Drive, MS 2042-PDM; Arlington, VA 22203.

We request that you send comments only by the methods described above. We will post all information received on http://www.regulations.gov. This generally means that we will post any personal information you provide us (see the Public Comments section below for more information).

FOR FURTHER INFORMATION CONTACT: Steve Shepard, Maine Field Office, by mail at 17 Godfrey Drive, Suite #2, Orono Maine 04473; by telephone at (207) 866-3344, extension 116; or by electronic mail at steve_shepard@fws.gov.

SUPPLEMENTARY INFORMATION: The Service hereby gives notice of its intent to adopt the Commission's existing FEA for the Application for Surrender of License of the Veazie, Great Works, and Howland Projects (FERC Project Nos. 2403, 2312 and 2721, respectively) (Project). The FEA, issued on May 18, 2010, evaluates the environmental impacts that would result from the Commission approving the applications for license surrender for the Veazie, Great Works, and Howlands hydroelectric projects. The FEA makes it clear that surrender of the licenses would lead to removal of Veazie and Great Works Dams and construction of a nature-like fish bypass around the Howland Dam, which are key elements of the PRRP. The dams are located in the towns of Veazie, Old Town, and Howland in Penobscot County, Maine.

The PRRP seeks to restore diadromous fish to the Penobscot River and key tributaries in accordance with the Lower Penobscot River Basin Comprehensive Settlement Agreement (Agreement), to which the Department is a signatory. The Service intends to approve grants, cooperative agreements, memoranda of agreement or understanding, or other administrative mechanisms to assist with funding the PRRP because the project will provide substantial benefits for diadromous fish.

The May 2010 FEA assessed the environmental effects of five alternatives of the PRRP: (1) No action; (2) the proposed action (the removal of the Veazie and Great Works Dams and the construction of a nature-like fish bypass at the Howland Dam); (3) the removal of all three dams; (4) the removal of the Veazie and Great Works Dams and surrender in place at the Howland Project; and (5) the surrender in place of all three projects. The Service commented on the draft FEA and is satisfied that all of its comments have been adequately addressed by the Commission in the FEA. Based on its review, the Service finds that the FEA would satisfy the Department's and the Service's NEPA compliance requirements with respect to the Service's decision to provide funds for the PRRP. Therefore, by this notice, the Service is recirculating the FEA for written public comment to meet its NEPA (40 CFR 1506.3 and 1506.6) requirements for the approval of future administrative mechanisms or funds in support of the PRRP. The Service encourages interested persons to review the FEA and submit written comments.

Availability of Documents

Those who do not have access to the Web site or cannot visit our office can request copies by telephone at (207) 866-3344 or by letter to the Maine Field Office (see ADDRESSES).

Location

The dams are located in the towns of Veazie, Old Town, and Howland in Penobscot County, Maine. They are currently operated as hydroelectric facilities under a Federal license with the Commission.

Background

The Commission's FEA was based on license applications from the Penobscot River Restoration Trust, a not-for-profit organization founded to implement the PRRP on behalf of the parties involved in the Agreement. The Service is a party to the Agreement, along with other State and Federal agencies, nongovernmental organizations, and PPL Corporation, which owned the hydroelectric facilities and three dams at the time of the Agreement. The specific purpose of the PRRP is to restore diadromous fish to the Penobscot River. Diadromous fish are species that use both marine and freshwater habitats during their life cycles. The species can be anadromous like Atlantic salmon, which are born and grow in freshwater, migrate out to sea to finish growing, and migrate back to freshwater, and for many species their natal river, to spawn. The species can also be catadromous like American eel, which are born and grow at sea, migrate to freshwater rivers, ponds, and lakes where they finish growing, and migrate back to their natal area at sea to spawn. Diadromous fish are one of the Service's trust resources for which the Service has been given specific responsibilities under Federal law. The Service's trust resources include migratory birds, interjurisdictional fishes (fish species that may cross State lines and include diadromous fish), federally listed threatened or endangered species, some marine mammals, and lands owned by the Service such as National Wildlife Refuges. The PRRP is consistent with the Service's mission to conserve trust resources. Therefore, the Service intends to assist in funding the PRRP through a variety of administrative mechanisms.

The FEA evaluates five alternatives, including the no action alternative. Details of these alternatives and their environmental effects are described in the FEA. The Service intends to approve grants, cooperative agreements, memoranda of agreement or understanding, or other administrative mechanisms to assist with funding the PRRP. Those future Federal actions trigger the need for compliance with NEPA. Based on its review, the Service finds that the FEA adequately addresses appropriate alternatives and their environmental effects and accurately describes the future actions that the Service may fund. The Service finds, therefore, that the FEA meets the Department's and the Service's NEPA procedures and guidelines and is appropriate for adoption.

Public Comments

The Service invites the public to comment on the Service adopting the FEA in order to comply with NEPA in association with future decisions to fund the PRRP (see DATES). You may submit your comments and materials concerning the notice by one of the methods listed in ADDRESSES. We request that you send comments only by the methods described in ADDRESSES.

If you submit a comment via http://www.regulations.gov, your entire comment—including any personal identifying information—will be posted on the Web site. We will post all hardcopy comments on http://www.regulations.gov as well. If you submit a hardcopy comment that includes personal identifying information, you may request at the top of your document that we withhold this information from public review. However, we cannot guarantee that we will be able to do so.

Comments and materials we receive, as well as documents associated with the notice, will be available for public inspection on http://www.regulations.gov at Docket No. FWS-R5-ES-2012-0046, or by appointment, during normal business hours, at the Service's Maine Field Office (see FOR FURTHER INFORMATION CONTACT). You may obtain copies of the notice on the Internet at http://www.regulations.gov at Docket No. FWS-R5-ES-2012-0046, or by mail from the Service's Maine Field Office (see FOR FURTHER INFORMATION CONTACT).

Conclusion

Based on the information summarized above, the Service intends to adopt the Commission's FEA to fully comply with the regulations for implementing NEPA for Federal funding decisions the Service may make in the future. After the close of the comment period, the Service anticipates issuing a Finding of No Significant Impact (FONSI) in conjunction with adopting the FEA. The FONSI will be available on the Internet at http://www.regulations.gov at Docket Number FWS-R5-ES-2012-0046, and at http://www.fws.gov/mainefieldoffice/index.html (Service's Maine Field Office Web site), or may be obtained by mail from the Service's Maine Field Office (see FOR FURTHER INFORMATION CONTACT).

Authority

This notice is provided pursuant to NEPA regulations (40 CFR 1506.3 and 1506.6).

Dated: July 17, 2012.
Henry Chang,
Acting Regional Director.

[FR Doc. 2012-18978 Filed 8-2-12; 8:45 am]

BILLING CODE 4310-55-P